DEPARTMENT OF TRANSPORTATION

Federal Aviation Administration

14 CFR Part 39

[Docket No. 2002-NM-231-AD]

RIN 2120-AA64

Airworthiness Directives; Dassault Model Falcon 2000 and 900EX, and Dassault Model Mystere-Falcon 900 Series Airplanes

AGENCY: Federal Aviation Administration, DOT.

ACTION: Notice of proposed rulemaking (NPRM).

SUMMARY: This document proposes the adoption of a new airworthiness directive (AD) that is applicable to certain Dassault Model Falcon 2000 and 900EX, and Dassault Model Mystere-Falcon 900 series airplanes. This proposal would require measuring the paint thickness on the upper and lower surfaces of the left and right sides of the horizontal stabilizer, performing corrective actions if necessary, and installing maintenance caution placards on the upper surface of the left and right sides of the horizontal stabilizer. This action is necessary to prevent structural damage to the horizontal stabilizer after a direct lightning strike, which could result in reduced controllability of the airplane. This action is intended to address the identified unsafe condition.

DATES: Comments must be received by December 15, 2003.

ADDRESSES: Submit comments in triplicate to the Federal Aviation Administration (FAA), Transport Airplane Directorate, ANM-114, Attention: Rules Docket No. 2002-NM-231-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-231-AD” in the subject line and need not be submitted in triplicate. Comments sent via the Internet as attached electronic files must be formatted in Microsoft Word 97 or 2000 or ASCII text.

The service information referenced in the proposed rule may be obtained from Dassault Falcon Jet, P.O. Box 2000, South Hackensack, New Jersey 07606. This information may be examined at the FAA, Transport Airplane Directorate, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-231-AD.” The postcard will be date stamped and returned to the commenter.

Availability of NPRMs

Any person may obtain a copy of this NPRM by submitting a request to the FAA, Transport Airplane Directorate, ANM-114, Attention: Rules Docket No. 2002-NM-231-AD, 1601 Lind Avenue, SW., Renton, Washington 98055-4056.

Discussion

The Direction Générale de l'Aviation Civile (DGAC), which is the airworthiness authority for France, notified the FAA that an unsafe condition may exist on certain Dassault Model Falcon 2000 and 900EX, and Dassault Model Mystere-Falcon 900 series airplanes. The DGAC advises that, during lightning testing on a composite horizontal stabilizer, it was discovered that excessive paint thickness has a detrimental effect on the lightning protection of the stabilizer structure. Such paint thickness impairs lightning propagation, which may lead to significant structural damage to the stabilizer after a direct lightning strike, and consequent reduced controllability of the airplane.

Explanation of Relevant Service Information

Dassault has issued Service Bulletins F900-291 (for Model Mystere-Falcon 900 series airplanes), F900EX-155 (for Model Falcon 900EX series airplanes), and F2000-234 (for Model Falcon 2000 series airplanes); all dated February 20, 2002. These service bulletins describe procedures for measuring the paint thickness on the upper and lower surfaces of the left and right sides of the horizontal stabilizer, and corrective actions if necessary. The procedures for determining the paint thickness include spot-sanding three different locations on the upper and lower surfaces of the left and right sides of the horizontal stabilizer, and using a dial indicator (or other equivalent means) to measure the thickness of the removed paint. The corrective actions include sanding and repainting areas where the paint is thicker than the limits specified in the applicable service bulletin. The service bulletins also describe procedures for installing maintenance caution placards on the upper surface of the left and right sides of the horizontal stabilizer.

Accomplishment of the actions specified in the service bulletins is intended to adequately address the identified unsafe condition. The DGAC classified these service bulletins as mandatory and issued French airworthiness directive 2002-089(B), dated March 2, 2002, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Difference Between the Proposed Rule and the Service Bulletins

Although the Accomplishment Instructions of the service bulletins specify to submit a service bulletin compliance form, this proposed AD does not require that action.

Cost Impact

The FAA estimates that 29 airplanes of U.S. registry would be affected by this proposed AD.

It would take approximately 16 work hours per airplane, at an average labor rate of $65 per work hour, to measure the paint thickness. Based on these figures, the cost impact for the proposed measurement of the paint thickness on U.S. operators is estimated to be $30,160, or $1,040 per airplane.

It would take approximately 3 work hours per airplane, at an average labor rate of $65 per work hour, to install the placards. Required parts would be provided to operators at no cost. Based on these figures, the cost impact for the proposed installation of the placards on U.S. operators is estimated to be $5,655, or $195 per airplane.

The cost impact figures discussed above are based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Dassault Aviation: Docket 2002-NM-231-AD.

Applicability: Model Mystere-Falcon 900 series airplanes, as listed in Dassault Service Bulletin F900-291, dated February 20, 2002; Model Falcon 900EX series airplanes, as listed in Dassault Service Bulletin F900EX-155, dated February 20, 2002; and Model Falcon 2000 series airplanes, as listed in Dassault Service Bulletin F2000-234, dated February 20, 2002; certificated in any category.

Compliance: Required as indicated, unless accomplished previously.

To prevent structural damage to the horizontal stabilizer after a direct lightning strike, which could result in reduced controllability of the airplane, accomplish the following:

Measurement of Paint Thickness and Corrective Actions

(a) Within 7 months after the effective date of this AD: Measure the thickness of the paint on the upper and lower surfaces of the left and right sides of the horizontal stabilizer in accordance with all of the actions specified in paragraphs 2.A. through 2.D. of the Accomplishment Instructions of Dassault Service Bulletin F900-291, dated February 20, 2002; Dassault Service Bulletin F900EX-155, dated February 20, 2002; or Dassault Service Bulletin F2000-234, dated February 20, 2002; as applicable. Any necessary corrective action must be done before further flight in accordance with the applicable service bulletin.

Installation of Placards

(b) After accomplishing the actions required by paragraph (a) of this AD, before further flight, install placards on the upper surface of the left and right sides of the horizontal stabilizer in accordance with paragraph 2.E. of the Accomplishment Instructions of Dassault Service Bulletin F900-291, dated February 20, 2002; Dassault Service Bulletin F900EX-155, dated February 20, 2002; or Dassault Service Bulletin F2000-234, dated February 20, 2002; as applicable.

Alternative Methods of Compliance

(c) In accordance with 14 CFR 39.19, the Manager, International Branch, ANM-116, Transport Airplane Directorate, FAA, is authorized to approve alternative methods of compliance for this AD.

Note 1: The subject of this AD is addressed in French airworthiness directive 2002-089(B), dated March 2, 2002.

Issued in Renton, Washington, on November 6, 2003.
Kalene C. Yanamura,
Acting Manager, Transport Airplane Directorate, Aircraft Certification Service.

[FR Doc. 03-28400 Filed 11-12-03; 8:45 am]

BILLING CODE 4910-13-P